DEPARTMENT OF HOMELAND SECURITY

Coast Guard

[USCG-2010-0231]

Collection of Information Under Review by Office of Management and Budget; OMB Control Number: 1625-0089

AGENCY: Coast Guard, DHS.

ACTION: Thirty-day Notice requesting comments; correction.

SUMMARY: The U.S. Coast Guard is issuing a correction to a Federal Register Notice published on July 9, 2010 to extend the comment period for ten (10) additional days, and address previous comments received on this collection of information: 1625-0089, National Recreational Boating Survey. The Notice stated that no comments were received from the public when in fact we received four. The comment period for the Notice, which closes August 9, 2010, is now extended to August 19, 2010. All comments and related material must either be submitted to our online docket via http://www.regulations.gov on or before August 19, 2010, or reach the Docket Management Facility (DMF) by that date.

DATES: Please submit comments on or before August 19, 2010.

ADDRESSES: You may submit comments identified by Coast Guard docket number [USCG-2010-0231] to the DMF at the U.S. Department of Transportation (DOT) or to the Office of Information and Regulatory Affairs (OIRA). To avoid duplicate submissions, please use only one of the following means:

(1) Online: (a) To Coast Guard docket at http://www.regulation.gov. (b) To OIRA by e-mail via: oira_submission@omb.eop.gov.

(2) Mail or Hand delivery. (a) DMF (M-30), DOT, West Building Ground Floor, Room W12-140, 1200 New Jersey Avenue, SE., Washington, DC 20590-0001. Hand deliver between the hours of 9 a.m. and 5 p.m., Monday through Friday, except Federal holidays. The telephone number is 202-366-9329. (b) To OIRA, 725 17th Street, NW., Washington, DC 20503, attention Desk Officer for the Coast Guard.

(3) Fax. (a) To DMF, 202-493-2251. (b) To OIRA at 202-395-5806. To ensure your comments are received in a timely manner, mark the fax, attention Desk Officer for the Coast Guard.

The DMF maintains the public docket for this Notice. Comments and material received from the public, as well as documents mentioned in this Notice as being available in the docket, will become part of the docket and will be available for inspection or copying at room W12-140 on the West Building Ground Floor, 1200 New Jersey Avenue, SE., Washington, DC, between 9 a.m. and 5 p.m., Monday through Friday, except Federal holidays. You may also find the docket on the Internet at http://www.regulations.gov.

A copy of the ICR is available through the docket on the Internet at http://www.regulations.gov. Additionally, copies are available from: Commandant (CG-611), ATTN Paperwork Reduction Act Manager, U.S. Coast Guard, 2100 2nd St., SW., Stop 7101, Washington, DC 20593-7101.

FOR FURTHER INFORMATION CONTACT: Mr. Arthur Requina, Office of Information Management, telephone 202-475-3523, or fax 202-475-3929, for questions on these documents. Contact Ms. Renee V. Wright, Program Manager, Docket Operations, 202-366-9826, for questions on the docket.

SUPPLEMENTARY INFORMATION: The Coast Guard is issuing this correction to an earlier Notice published on July 9, 2010, (75 FR 39552) in order to extend ten (10) additional days to the comment period and address previous comments received on this collection of information: 1625-0089, National Recreational Boating Survey.

Comments to Coast Guard or OIRA must contain the OMB Control Number of the ICR. They must also contain the docket number of this request, [USCG-2010-0231]. For your comments to OIRA to be considered, it is best if they are received on or before August 19, 2010.

Public participation and request for comments: We encourage you to respond to this request by submitting comments and related materials. We will post all comments received, without change, to http://www.regulations.gov. They will include any personal information you provide. We have an agreement with DOT to use their DMF. Please see the “Privacy Act” paragraph below.

Submitting comments: If you submit a comment, please include the docket number [USCG-2010-0231], indicate the specific section of the document to which each comment applies, providing a reason for each comment. You may submit your comments and material online (via http://www.regulations.gov) or by fax, mail, or hand delivery, but please use only one of these means. If you submit a comment online via www.regulations.gov, it will be considered received when you successfully transmit the comment. If you fax, hand deliver, or mail your comment, it will be considered received by the Coast Guard when it is received at the DMF. We recommend you include your name, mailing address, an e-mail address, or other contact information in the body of your document so that we can contact you if we have questions regarding your submission.

To submit your comment online, go to http://www.regulations.gov, click on the “submit a comment” box, which will then become highlighted in blue. In the “Document Type” drop down menu, select “Notices” and insert “USCG-2010-0231” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period and address them accordingly.

Viewing comments and documents: Go to http://www.regulations.gov to view documents mentioned in this Notice as being available in the docket. Click on the “read comments” box, which will then become highlighted in blue. In the “Keyword” box insert “USCG-2010-0231” and click “Search.” Click the “Open Docket Folder” in the “Actions” column. You may also visit the DMF in room W12-140 on the West Building Ground Floor, 1200 New Jersey Avenue SE., Washington, DC, between 9 a.m. and 5 p.m., Monday through Friday, except Federal holidays. To find out OIRA's decision on this ICR, visit http://www.reginfo.gov/public/do/PRAMain after the comment period. An OMB notice of action on this request will become available on that Web site through a hyperlink in the OMB Control Number: 1625-0089. Privacy Act: Anyone can search the electronic form of all comments received in dockets by the name of the individual submitting the comment (or signing the comment, if submitted on behalf of an association, business, labor union, etc.). You may review the Privacy Act statement regarding our public dockets in the January 17, 2008 issue of the Federal Register (73 FR 3316).

Previous Request for Comments

The Coast Guard published the 60-day Notice (75 FR 19413, April 14, 2010) as required by 44 U.S.C. 3506(c)(2). That Notice elicited four comments from the public. We diligently reviewed each of the comments received, and made changes to our survey's supporting statement where deemed appropriate. The present document provides a summary of public comments, our responses thereto, and changes made to the supporting statement.

i. General Supportive Comments

All comments supported the National Recreational Boating Survey's broad goals, and reiterated the importance of collecting more targeted data in response to the elements included in the National Recreational Boating Safety (NRBS) Program's strategic plan. This Plan calls for the collection of participation/exposure data to develop reliable national and state level measures of the risk incidental to recreational boating. Valid comparisons of injury or fatality rates across States or other geographic entities, which have always been of interest, require the use of participation/exposure data as common base for calculating rates' denominators. This survey will make exposure data available to the boating community, in addition to collecting various other boating participation data broken down by various boat characteristics including type and length.

ii. The Survey and the Strategic Plan Objectives

One commenter indicated that the current survey does not account for the more recent developments in the NRBS strategic planning efforts. While it is accurate that the NRBS strategic plan is undergoing some changes, the Coast Guard had to base the design of its survey on the latest version of the Plan that was adopted by the National Boating Safety Advisory Council. However, it is expected that subsequent iterations of the survey will be updated as new versions of the Plan are adopted.

iii. Survey Costs

A number of comments raised a concern that the cost for conducting this survey was unduly high, suggesting the questionnaires could be trimmed substantially to the point of collecting only information that is critical to the implementation of the NRBS strategic plan. It is accurate that government surveys are increasingly expensive, especially when conducted by mail/telephone. But the definitive costs of the 2011 survey have not yet been determined, and will ultimately be negotiated with the Coast Guard's contractor ICF-Macro. The Coast Guard will negotiate the lowest price possible for each survey iteration without significantly altering data requirements as specified by its boating partners from States, academia, and industry. To reduce survey costs, the Coast Guard will encourage survey participants to take the web version of the survey whenever possible. Another option for reducing cost is not to produce state-level statistics for those not providing registration data to the Coast Guard. Collecting data in States with legislation that precludes them from releasing boat registration to the Coast Guard will increase data collection costs dramatically. However, it appears essential to the Coast Guard to satisfy all its boating partners who put in the effort to express their data needs.

iv. Collection of 2010 Data

Some comments indicated that Coast Guard's effort to collect 2010 data in the first survey cycle, where participants will have to recall a year's worth of information will result in poor data quality. It is accurate that in addition to collecting the 2011 data on a monthly basis, the Coast Guard will ask questions regarding the 2010 boating season. While accurate 2010 exposure data will be difficult to obtain, the Coast Guard expects to be able to collect accurate and useful 2010 information on boat ownership and demographic data on the boating population. This data will be compiled and made available much faster than the 2011 data which will be collected until the beginning of 2012.

v. Miscellaneous

♢ A commenter pointed out the difficulty most boaters have in identifying life jacket types they use. The Coast Guard's contractor discovered this problem during the pilot test. The decision was made to eliminate the lifejacket type question from the telephone survey. However, this question will remain on the web version of the trip survey, where respondents will be able to visualize the different lifejacket types.

♢ Another comment questioned the need to ask boaters whether lifejackets were worn during the outing, when the Coast Guard's observational study collects the same information. This survey is not duplicating other Coast Guard information collection efforts. The objective here is to understand the reasons why boaters do not wear lifejackets, or the reasons why they wear them when they do.

♢ A comment was made regarding the estimated time to complete the different survey questionnaires that may be understated. While survey questionnaires were field-tested by our contractor, times reported on the Supporting Statement are estimated averages across questionnaires and across survey respondents. It is understood that some survey questionnaires will take longer to complete than others. Moreover, even respondents taking the same survey will spend varying amounts of time depending on the information being reported. It is anticipated that some respondents with limited involvement in boating may take less than five minutes to complete a questionnaire that may take 15 to 20 minutes for respondents who are heavy boaters.

Information Collection Request

Title: National Recreational Boating Survey.

OMB Control Number: 1625-0089.

Type of Request: Re-instatement with change.

Respondents: Recreational boating participants/owners of recreational boaters/vessels.

Abstract: The Federal Boat Safety Act of 1971 determines the framework of the Coast Guard Recreational Boating Safety Program. This Program, as set forth in 46 U.S.C., Chapter 131, requires the Coast Guard to “encourage greater State participation and uniformity in boating safety efforts, and particularly to permit the States to assume a greater share of boating safety education, assistance, and enforcement activities.” (See 46 U.S.C. 13102.) The Coast Guard Office of Boating Safety achieves these goals by providing timely and relevant information on subject activities that occur in each respective jurisdiction. The boating information provided by the Coast Guard enables each State agency to tailor and implement safety initiatives addressing specific needs of boaters in local jurisdictions. The primary objective of this collection is to provide the Coast Guard with the required information in a format suitable to effectively manage the Program.

Forms: None.

Burden Estimate: This is a biennial requirement. In the year the survey is conducted, the burden is estimated to be 10,880 hours.

Authority: The Paperwork Reduction Act of 1995; 44 U.S.C. Chapter 35, as amended.

Dated: August 3, 2010.
R.E. Day,
Rear Admiral, U.S. Coast Guard, Assistant Commandant for Command, Control, Communications, Computers and Information Technology.

[FR Doc. 2010-19632 Filed 8-9-10; 8:45 am]

BILLING CODE 9110-04-P